DEPARTMENT OF COMMERCE

International Trade Administration

[A-560-828]

Certain Uncoated Paper From Indonesia: Rescission, in Part, of Antidumping Duty Administrative Review; 2015-2017

AGENCY: Enforcement and Compliance, International Trade Administration, Department of Commerce.

SUMMARY: On May 9, 2017, the Department of Commerce (the Department) initiated an administrative review of the (AD) antidumping duty order on certain uncoated paper (uncoated paper) from Indonesia for two companies for the period August 26, 2015, through February 28, 2017. Based on a timely withdrawal of a request for review, we are now rescinding this administrative review with respect to one company, PT. Indah Kiat Pulp and Paper Tbk, PT. Pabrik Kertas Tjiwi Kirnja Tbk, and PT. Pindo Deli Pulp and Paper Mills (PD) (collectively, APP).

DATES: Applicable August 11, 2017.

FOR FURTHER INFORMATION CONTACT: Blaine Wiltse or Manuel Rey, AD/CVD Operations, Office II, Enforcement and Compliance, International Trade Administration, U.S. Department of Commerce, 1401 Constitution Avenue NW., Washington, DC 20230; telephone: (202) 482-6345 or (202) 482-5518, respectively.

SUPPLEMENTARY INFORMATION:

Background

On March 6, 2017, the Department published a notice of opportunity to request an administrative review of the AD order on uncoated paper from Indonesia.¹ On March 31, 2017, the Department received timely requests to conduct an administrative review of two companies: (1) PT. Indah Kiat Pulp and Paper Tbk, PT. Pabrik Kertas Tjiwi Kirnja Tbk, and Pindo Deli Pulp and Paper Mills (PD) (collectively, APP); and (2) PT Anugerah Kertas Utama, PT Riau Andalan Kertas, and APRIL Fine Paper Macao Offshore Limited (collectively APRIL).² Based upon these requests, on May 9, 2017, in accordance with section 751(a) of the Tariff Act of 1930, as amended (the Act), the Department published a notice of initiation of an administrative review covering the period August 26, 2015, through February 28, 2017, with respect to two companies.³ On June 12, 2017, APP withdrew its request for an administrative review.

¹ See Antidumping or Countervailing Duty Order, Finding, or Suspended Investigation: Opportunity to Request Administrative Review, 82 FR 12551 (March 6, 2017).

² See Letter from APP, “Certain Uncoated Paper from Indonesia: Request for Administrative Reviews,” dated March 31, 2017; and Letter from APRIL, “Uncoated Paper from Indonesia,” dated March 31, 2017.

³ See Initiation of Antidumping and Countervailing Duty Administrative Reviews, 82 FR 21513 (May 9, 2017), as corrected by Initiation of Antidumping and Countervailing Duty Administrative Reviews, 82 FR 26444, 26445, 26451 (June 7, 2017).

Partial Rescission

Pursuant to 19 CFR 351.213(d)(1), the Secretary will rescind an administrative review, in whole or in part, if a party who requested the review withdraws the request within 90 days of the date of publication of notice of initiation of the requested review. APP timely withdrew its request for an administrative review of itself and no other party requested a review of this company. Accordingly, we are rescinding this review with respect to APP, in accordance with 19 CFR 351.213(d)(1).

Assessment

The Department will instruct U.S. Customs and Border Protection (CBP) to assess antidumping duties on all appropriate entries. For APP, the company for which this review is rescinded, antidumping duties shall be assessed at rates equal to the cash deposit of estimated antidumping duties required at the time of entry, or withdrawal from warehouse, for consumption, in accordance with 19 CFR 351.212(c)(1)(i). The Department intends to issue appropriate assessment instructions to CBP 15 days after publication of this notice.

Notification to Importers

This notice serves as a reminder to importers of their responsibility under 19 CFR 351.402(f)(2) to file a certificate regarding the reimbursement of antidumping and/or countervailing duties prior to liquidation of the relevant entries during this review period. Failure to comply with this requirement could result in the Secretary's presumption that reimbursement of antidumping and/or countervailing duties occurred and the subsequent assessment of doubled antidumping duties.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751 and 777(i)(1) of the Act, and 19 CFR 351.213(d)(4).

Dated: August 7, 2017.
James Maeder,
Senior Director performing the duties of the Deputy Assistant Secretary for Antidumping and Countervailing Duty Operations.

[FR Doc. 2017-16995 Filed 8-10-17; 8:45 am]

BILLING CODE 3510-DS-P